DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to Reason for Delay

1. Awaiting additional information from applicant.

2. Extensive public comment under review.

3. Application is technically complex and is of significant impact or precedent-setting and requires extensive analysis.

4. Staff review delayed by other priority issues or volume of special permit Applications.

Meaning of Application Number Suffixes

N—New application

M—Modification request

PM—Party to application with modification request

Issued in Washington, DC, on February 11, 2009.
Delmer F. Billings,
Director, Office of Hazardous Materials, Special Permits and Approvals.

Application No. | Applicant | Reason for delay | Estimated date of completion
Modification to Special Permits
14167-M | Trinityrail Dallas, TX | 4 | 03-31-2009
8723-M | Alaska Pacific Powder Company Anchorage, AK | 1 | 02-28-2009
12412-M | Brenntag Southwest Sand Springs, OK | 3, 4 | 02-28-2009
New Special Permit Applications
14689-N | Trinity Industries, Inc. Dallas, TX | 2, 3 | 02-28-2009
14733-N | GTM Technologies, Inc. San Francisco, CA | 1, 3 | 03-31-2009

[FR Doc. E9-3374 Filed 2-17-09; 8:45 am]

BILLING CODE 4910-60-M